DEPARTMENT OF ENERGY

Federal Energy Regulatory Commission

Combined Notice of Filings #1

July 16, 2007.

Take notice that the Commission received the following electric corporate filings:

Docket Numbers: EC07-115-000

Applicants: Iberdrola Energias Renovables S.A.U.

Description: Iberdrola Energias Renovables SAU submits an Application for order under Section 203(a)(1) of the FPA authorizing disposition of Jurisdictional Facilities resulting from an initial public offering & request for waivers.

Filed Date: 07/13/2007.

Accession Number: 20070716-0188.

Comment Date: 5 p.m. Eastern Time on Friday, August 03, 2007.

Take notice that the Commission received the following electric rate filings:

Docket Numbers: ER97-2801-018.

Applicants: PacifiCorp.

Description: Change in Status of PacifiCorp.

Filed Date: 07/13/2007.

Accession Number: 20070713-5022.

Comment Date: 5 p.m. Eastern Time on Friday, August 03, 2007.

Docket Numbers: ER00-2706-005; ER06-754-002; ER01-2760-004; ER01-2066-005; ER02-963-007; ER98-4515-009; ER06-744-003; ER03-28-003; ER03-398-010; ER01-1418-009; ER02-1238-009; ER99-3450-007; ER99-2769-008; ER01-390-004; ER06-733-004.

Applicants: Foote Creek IV, LLC; Auburndale Power Partners LP; Ridge Crest Wind Partners, LLC; Allegheny Energy Supply Lincoln Generation; Crete Energy Venture, LLC; Cadillac Renewable Energy LLC; Sabine Cogen, LP; Walton County Power, LLC; Washington County Power, LLC; Effingham County Power, LLC; MPC Generating, LLC; Foote Creek II, LLC; Foote Creek III, LLC; Chandler Wind Partners, LLC; Midland Cogeneration Venture Limited Partnership.

Description: ArcLight Capital Partners, LLC et al. submits this notification of a change-in-status for Entities with Market-Based Rate Authority.

Filed Date: 07/11/2007.

Accession Number: 20070713-0050.

Comment Date: 5 p.m. Eastern Time on Wednesday, August 01, 2007.

Docket Numbers: ER02-1330-008; ER03-358-003.

Applicants: Pacific Gas and Electric Company; Calpine Corporation.

Description: Pacific Gas and Electric Co. and Calpine Corporation submit a Settlement Agreement re the Generator Special Facilities Agreements and Generator Interconnection Agreements for Los Medanos Energy Center, LLC.

Filed Date: 07/05/2007.

Accession Number: 20070712-0162.

Comment Date: 5 p.m. Eastern Time on Thursday, July 26, 2007.

Docket Numbers: ER07-591-002.

Applicants: Exel Power Sources, LLC.

Description: Exel Power Sources, LLC submits a Petition for Acceptance of Initial Tariff, Waivers and Blanket Authority etc.

Filed Date: 07/11/2007.

Accession Number: 20070713-0053.

Comment Date: 5 p.m. Eastern Time on Wednesday, August 01, 2007.

Docket Numbers: ER07-911-001.

Applicants: RPL Holdings, LLC.

Description: RPL Holdings, Inc submits this report on refunds with respect to the delivery of test power from RPL Holdings 65 MW Facility to the PJM Interconnection, LLC electricity market.

Filed Date: 07/11/2007.

Accession Number: 20070713-0055.

Comment Date: 5 p.m. Eastern Time on Wednesday, August 01, 2007.

Docket Numbers: ER07-939-001.

Applicants: Columbia Utilities Power, LLC.

Description: Columbia Utilities Power, LLC submits an amendment to its petition for acceptance of initial rate filing.

Filed Date: 07/12/2007.

Accession Number: 20070716-0184.

Comment Date: 5 p.m. Eastern Time on Thursday, August 02, 2007.

Docket Numbers: ER07-959-001.

Applicants: Wolverine Power Supply Cooperative, Inc.

Description: Wolverine Power Supply Cooperative, Inc. amends its May 30, 2007 Filing by submitting First Revised Sheet 1 to FERC Electric Tariff, First Revised Volume 1.

Filed Date: 07/10/2007.

Accession Number: 20070712-0174.

Comment Date: 5 p.m. Eastern Time on Tuesday, July 31, 2007.

Docket Numbers: ER07-960-001.

Applicants: Wolverine Power Supply Cooperative, Inc.

Description: Wolverine Power Supply Cooperative, Inc. amends its May 30, 2007 Filing of the Wholesale Distribution Service Agreement with Tower Kleber Limited Partnership.

Filed Date: 07/10/2007.

Accession Number: 20070712-0175.

Comment Date: 5 p.m. Eastern Time on Tuesday, July 31, 2007.

Docket Numbers: ER07-1031-001.

Applicants: KeyTex Energy LLC.

Description: KeyTex Energy LLC submits an amendment to its June 13, 2007, Petition for Acceptance of Initial Rate Schedule, Waivers and Blanket Authority.

Filed Date: 07/11/2007.

Accession Number: 20070713-0054.

Comment Date: 5 p.m. Eastern Time on Wednesday, August 01, 2007.

Docket Numbers: ER07-1090-001.

Applicants: PJM Interconnection L.L.C.

Description: PJM Interconnection, LLC submits a corrected version of its Wholesale Market Participation Agreement.

Filed Date: 07/10/2007.

Accession Number: 20070711-0033.

Comment Date: 5 p.m. Eastern Time on Tuesday, July 31, 2007.

Docket Numbers: ER07-1142-000.

Applicants: Arizona Public Service Company.

Description: Arizona Public Service Company submits revisions to their Open Access Transmission Tariff.

Filed Date: 07/10/2007.

Accession Number: 20070712-0179.

Comment Date: 5 p.m. Eastern Time on Tuesday, July 31, 2007.

Docket Numbers: ER07-1143-000.

Applicants: Southern California Edison Company.

Description: Southern California Edison Company submits revised rate sheets to the Expedited Service and Interconnection Agreement with Wintec Energy LTD designated as Service Agreement 28.

Filed Date: 07/13/2007.

Accession Number: 20070716-0186.

Comment Date: 5 p.m. Eastern Time on Friday, August 03, 2007.

Docket Numbers: ER07-1144-000.

Applicants: American Transmission Company LLC and Midwest Independent Transmission System Operator, Inc.

Description: American Transmission Co. LLC et al. submits the proposed Attachment FF-ATCLLC to its Open Access Transmission and Energy Market Tariff.

Filed Date: 07/11/2007.

Accession Number: 20070713-0056.

Comment Date: 5 p.m. Eastern Time on Wednesday, August 01, 2007.

Docket Numbers: ER07-1145-000.

Applicants: Entergy Services, Inc.

Description: Entergy Services, Inc., agent for Entergy Arkansas, Inc. et al., submits revisions to the Interconnection and Operating Agreement with Mississippi Delta Energy Agency.

Filed Date: 07/11/2007.

Accession Number: 20070713-0057.

Comment Date: 5 p.m. Eastern Time on Wednesday, August 01, 2007.

Docket Numbers: ER07-1147-000.

Applicants: American Electric Power Service Corporation.

Description: American Electric Power Service Corporation, agent for Indiana Michigan Power Company, submits an executed Letter Agreement 2 w/Michigan Electric Transmission Company dated 7/2/07.

Filed Date: 07/13/2007.

Accession Number: 20070716-0185.

Comment Date: 5 p.m. Eastern Time on Friday, August 03, 2007.

Take notice that the Commission received the following foreign utility company status filings:

Docket Numbers: FC07-53-000.

Applicants: Transportista Electrica Centroamericana.

Description: Foreign Utility Company Notice of Self-Certification.

Filed Date: 07/11/2007.

Accession Number: 20070711-5041.

Comment Date: 5 p.m. Eastern Time on Wednesday, August 01, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-14309 Filed 7-24-07; 8:45 am]

BILLING CODE 6717-01-P